DEPARTMENT OF TRANSPORTATION

National Highway Traffic Safety Administration

[Docket No. NHTSA-2025-0259]

Agency Information Collection Activities; Notice and Request for Comment; Advanced Drunk Driving Prevention Technology Telltale Development

AGENCY: National Highway Traffic Safety Administration (NHTSA), Department of Transportation (DOT).

ACTION: Notice and request for comments on a request for approval of a new collection of information.

SUMMARY: NHTSA invites public comments about our intention to request approval from the Office of Management and Budget (OMB) for a new information collection. Before a Federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB approval on the development and evaluation of an advanced drunk driving prevention technology telltale.

DATES: Comments must be submitted on or before February 13, 2026.

ADDRESSES: You may submit comments identified by the Docket No. NHTSA-2025-0259 through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Eric Traube, Office of Vehicle Safety Research, Human Factors/Engineering Integration Division NSR-310, West Building, U.S. Department of Transportation, 1200 New Jersey Avenue SE, Washington, DC 20590; 202-366-5673; eric.traube@dot.gov. Please identify the relevant collection of information by referring to its OMB Control Number.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g. permitting electronic submission of responses. In compliance with these requirements, NHTSA asks for public comments on the following proposed collection of information for which the agency is seeking approval from OMB.

Title: Advanced Drunk Driving Prevention Technology Telltale Development.

OMB Control Number: New.

Form Number(s): There are multiple forms for this new information collection including:

• NHTSA Form 2092: Online Survey—Study 1A

• NHTSA Form 2086: Eligibility Questionnaire—Study 1B

• NHTSA Form 2087: Eligibility Questionnaire—Study 2

• NHTSA Form 2081: Appointment Confirmation-Sober—Study 1B

• NHTSA Form 2080: Appointment Confirmation-Alcohol Dosed—Study 1B

• NHTSA Form 2082: Appointment Confirmation—Study 2

• NHTSA Form 2090: Informed Consent Document-Sober—Study 1B

• NHTSA Form 2089: Informed Consent Document-Alcohol Dosed—Study 1B

• NHTSA Form 2091: Informed Consent Document—Study 2

• NHTSA Form 2083: Combined Driving Questionnaire—Study 1B & Study 2

• NHTSA Form 2096: Telltale Questions—Study 1B

• NHTSA Form 2095: Telltale Acceptance Questionnaire—Study 1B

• NHTSA Form 2094: Post-Drive Ratings—Study 2

• NHTSA Form 2093: Post-Drive Questionnaire—Study 2

• NHTSA Form 2097: Wellness Questionnaire—Study 2

• NHTSA Form 2084: Debriefing Statement—Study1B

• NHTSA Form 2085: Debriefing Statement—Study 2

• NHTSA Form 2088: End of Visit Release Agreement—Study 1B & Study 2

Type of Request: New.

Type of Review Requested: Regular.

Requested Expiration Date of Approval: 3 years from date of approval.

Summary of the Collection of Information: The National Highway Traffic Safety Administration (NHTSA) is seeking approval to collect information from the public as part of a multiyear effort to understand how best to alert drivers that a drunk driving detection system has (1) detected the presence of alcohol in their vehicle that corresponds to a driver that is near or above the legal limit or (2) detected that the driver's behavioral state is likely to be classified as under the influence of alcohol or “drunk.” The overall objective of this research is to advance the state of knowledge regarding driver alcohol impairment detection telltales through developing and evaluating telltale alternatives and is not immediately intended to inform regulations or policy. The research will be conducted in three parts, referred to as Study 1A, Study 1B, and Study 2. All study procedures are approved by the University of Iowa Institutional Review Board (IRB).

Study 1 will focus on the evaluation of candidate telltales developed under this project. In Study 1A, respondents will complete an online survey to gain initial information about telltale comprehension and preferences. Participants will be randomly assigned to one of the candidate telltales and to one of two question display orders for overall ratings. Study 1B will involve sober and alcohol-impaired evaluation of the candidate telltales in a research setting. Participants will be screened and assigned to the sober or alcohol-dosed visit type based on eligibility. All participants will provide informed consent, undergo intake and eligibility confirmation procedures, complete a questionnaire to obtain demographic and driving behavior information, view the candidate telltales while seated at a miniSim driving simulator, complete comprehension questions related to the telltales, complete questions related to telltale efficacy and acceptance, and be debriefed on study procedures. Alcohol-dosed participants will receive alcohol to a BrAC level of approximately .08 g/210L for their telltale comprehension, wait at DSRI until their BrAC is at or below .03 g/210L, and complete an agreement that they will not drive, bike, or walk home after the visit.

Study 2 will be a repeated-measures simulator study to assess the impact of the final candidate telltale on pre-drive and mid-drive decision making. All participants will receive alcohol to a BrAC level of approximately .08 g/210L. Participants will provide informed consent, undergo intake and eligibility confirmation procedures, complete a questionnaire to obtain demographic and driving behavior information, complete training on a miniSim driving simulator and complete a familiarization drive and a wellness questionnaire to screen for simulator sickness, complete a sober baseline drive, undergo alcohol dosing procedures, complete three telltale evaluation drives with post-drive ratings and a small alcohol booster drink between drives, complete a post-drive questionnaire, be debriefed on study procedures, wait at DSRI until their BrAC is at or below .03 g/210L, and complete an agreement that they will not drive, bike, or walk home after the visit. Participants will be randomly assigned to one of six possible telltale evaluation drive orders for the three telltale conditions (no telltale, telltale pre-drive, telltale mid-drive). The simulator will collect vehicle data (e.g., brake inputs, steering wheel angle) and data about the surrounding environment (e.g., distance to surrounding vehicles and lane markings). Data will be analyzed to understand how human drivers respond to a drunk driving detection telltale under different conditions.

Description of the Need for the Information and Proposed Use of the Information: NHTSA's mission is to save lives, prevent injuries, and reduce the economic costs of road traffic crashes through education, research, safety standards, and enforcement activity. As vehicle technologies advance, they have the potential to dramatically reduce the loss of life each day in roadway crashes. Alternatively, the systems may not reach this potential or could potentially decrease safety when drivers do not understand how to safely interact with the systems or do not understand the capabilities and limitations. This new information collection request is for a multipart study to understand how best to alert drivers that a drunk driving detection system has (1) detected the presence of alcohol in their vehicle that corresponds to a driver that is near or above the federal limit of .08 g/dL BAC or (2) detected that the driver's behavioral state is likely to be classified as under the influence of alcohol or “drunk.” This research supports NHTSA's mission of safety.

The following components will be used to obtain the necessary information to achieve this purpose.

(1) Online Survey—Study 1A (NHTSA Form 2092): This survey is necessary for evaluating initial driver comprehension of candidate telltales. Results from this survey will be used to improve the candidate telltales for Study 1B by modifying, eliminating, or creating new candidates.

(2) Eligibility Questionnaire—Study 1B (NHTSA Form 2086): This questionnaire is necessary for determining respondent suitability for the study based on driving experience and history and ability to adhere to study requirements. To be considered for the alcohol-dosed visit, suitability is also based on general health and alcohol use.

(3) Eligibility Questionnaire—Study 2 (NHTSA Form 2087): This questionnaire is necessary for determining respondent suitability for the study based on driving experience and history, ability to adhere to study requirements, general health, alcohol use, and ability to safely drive the miniSim without concerns.

(4) Appointment Confirmation-Sober—Study 1B (NHTSA Form 2081): This form contains the reminder email and information provided to the participant and is necessary for reminding participants of their study visit and communicating necessary information for the visit. No data is collected or analyzed from this form. The email is sent one time to the participant 48 hours prior to the scheduled visit. The respondent does not have to respond to any specific questions but is asked to contact the research team if there has been a change in health or if they are currently experiencing any symptoms of illness or are feeling unwell. To confirm the visit, the participant will click on a link that takes them to an information page that contains reminders and instructions for the visit.

(5) Appointment Confirmation-Alcohol Dosed—Study 1B (NHTSA Form 2080): This form contains the reminder email and information provided to the participant and is necessary for reminding participants of their study visit and communicating necessary information for the visit. No data is collected or analyzed from this form. The email is sent one time to the participant 48 hours prior to the scheduled visit. The respondent does not have to respond to any specific questions but is asked to contact the research team if there has been a change in health or if they are currently experiencing any symptoms of illness or are feeling unwell. To confirm the visit, the participant will click on a link that takes them to an information page that contains reminders and instructions for the visit.

(6) Appointment Confirmation—Study 2 (NHTSA Form 2082): This form contains the reminder email and information provided to the participant and is necessary for reminding participants of their study visit and communicating necessary information for the visit. No data is collected or analyzed from this form. The email is sent one time to the participant 48 hours prior to the scheduled visit. The respondent does not have to respond to any specific questions but is asked to contact the research team if there has been a change in health or if they are currently experiencing any symptoms of illness or feeling unwell. To confirm the visit, the participant will click on a link that takes them to an information page that contains reminders and instructions for the visit.

(7) Informed Consent Document-Sober—Study 1B (NHTSA Form 2090): This form is necessary for obtaining documented informed consent from the participant to participate in the study. The form describes all study procedures, data storage and use, and potential risks from the study.

(8) Intake & Eligibility Confirmation-Sober—Study 1B: This process includes completion of the research participant substitute W-9 for payment, review of the driver's license to confirm it is valid by checking the expiration date and confirming age (for eligibility) and sex (for balancing sample) as listed on the license, administration of a breath alcohol concentration (BrAC) reading to ensure sobriety, and obtaining a urine sample for drug testing. While there is a preferred order to these procedures, the block is fluid to permit for variability in participant ability to provide a urine sample at the designated time. These procedures are necessary to pay the participant and ensure they meet eligibility requirements before continuing with Study 1B sober visit procedures.

(9) Combined Driving Questionnaire—Study 1B & Study 2 (NHTSA Form 2083): This form is necessary for obtaining demographic information (e.g., age, sex, race/ethnicity, household income, employment status, education, driving experience and comfort, licensure, history of crashes) and gathering opinions and driving behaviors related to alcohol and driving. Prior experience with alcohol and driving could influence telltale comprehension and acceptance. This form is administered at both the sober and alcohol-dosed visits of Study 1B as well as the Study 2 visit.

(10) Telltale Evaluation at the Simulator—Study 1B: This block of procedures in Study 1B, both visit types, includes preparing the miniSim and seating the participant at the simulator, training on the evaluation protocol, and administration of the protocol. Participants are shown twelve telltales one at a time and answer comprehension questions between telltale displays. NHTSA Form 2096 includes all telltales and questions to be asked as part of this process. Participants will not be driving the miniSim but will be shown each of the telltales in context on the simulator's instrument cluster.

(11) Telltale Acceptance Questionnaire—Study 1B (NHTSA Form 2095): This form is necessary to assess acceptance of the telltales and is administered after the Telltale Evaluation at the Simulator.

(12) Debriefing Statement—Study 1B (NHTSA Form 2084): This form is necessary to ensure participants are given full information about the study and to instruct participants not to share specific details with others. A researcher will verbally communicate all information contained in the form and provide a copy to the participant.

(13) Informed Consent Document-Alcohol Dosed—Study 1B (NHTSA Form 2089): This form is necessary for obtaining documented informed consent from the participant to participate in the study. The form describes all study procedures, data storage and use, and potential risks from the study.

(14) Intake & Eligibility Confirmation-Alcohol Dosed—Study 1B & Study 2: This process includes procedures necessary for eligibility confirmation and baseline readings as well as standard intake procedures. Intake procedures include completion of the research participant substitute W-9 for payment and review of the driver's license to confirm it is valid by checking the expiration date and confirming age (for eligibility) and sex as listed on the license (for balancing sample and required pregnancy testing due to alcohol dosing), and obtaining measurements of weight and height (for alcohol dosing calculations). Eligibility procedures include asking a series of “yes/no” questions to confirm nothing has changed in eligibility status from the online eligibility questionnaire, administration of a breath alcohol concentration (BrAC) reading to ensure sobriety (and to serve as baseline) and obtaining a urine sample for drug and pregnancy testing. Baseline vitals of blood pressure, heart rate, respiratory rate, pulse oximetry, and temperature are taken. While there is a preferred order to these procedures, the block is fluid to permit for variability in participant ability to provide a urine sample at the designated time.

(15) Alcohol Dosing Procedures—Study 1B & Study 2: This block of procedures is necessary for the administration of alcohol. Participants will be dosed to achieve an approximate BrAC level of .08. The participant will undergo multiple BrAC measurements as part of this process.

(16) End of Visit Procedures-Alcohol Dosed—Study 1B & Study 2: This block of procedures comes at the end of the alcohol-dosed visits, after debriefing is complete. Procedures in this block are to ensure participant well-being and safety and have been approved by University of Iowa Risk Management. Procedures include a period of monitoring the participant while waiting for them to sober to a level at or below a .03, administering BrAC measurements, discharge vitals, and administration of NHTSA Form 2088 (the End of Visit Release Agreement). This agreement is necessary to ensure there is documentation that the participant understood they could not drive, bike, or walk home.

(17) Informed Consent Document—Study 2 (NHTSA Form 2091): This form is necessary for obtaining documented informed consent from the participant to participate in the study. The form describes all study procedures, data storage and use, and potential risks from the study.

(18) Sober Baseline Driving Procedures—Study 2: This block of procedures is necessary to prepare participants for their study drives. Participants will receive protocol training of approximately 5 minutes on the miniSim driving simulator and on the incentive structure to be used in the telltale evaluation drives, complete a familiarization drive of approximately 10 minutes, and complete a sober baseline drive of approximately 15 minutes. The familiarization drive allows participants a chance to become comfortable with driving the miniSim and will prepare them for the drives they will complete later in the visit. It also serves to screen for simulator sickness. The sober baseline drive is necessary for gathering information for the purpose of assessing how drivers interact with the telltale and the impact of these interactions on safety.

(19) Wellness Questionnaire—Study 2 (NHTSA Form 2097): This form is necessary for evaluating simulator sickness symptoms to determine participant ability to complete the telltale evaluation study drives in the miniSim driving simulator. This questionnaire will be administered after the familiarization drive and after the final study drive.

(20) Telltale Evaluation Drives—Study 2: These study evaluation drives are necessary to assess the impact of the final candidate telltale on pre-drive and mid-drive decision making. Each of the three study drives, one for each telltale condition (no telltale, pre-drive telltale, mid-drive telltale), will last approximately 15 minutes. The drive will take place in a simulated nighttime environment to mimic the lighting conditions when most alcohol-related crashes occur. Financial incentives will be used to mimic the motivational tradeoffs of an impaired driving situation.

(21) Post-Drive Ratings—Study 2 (NHTSA Form 2094): After each of the telltale evaluation drives, participants will provide a BrAC measurement and will be asked to complete ratings of their impairment and asked about their decision-making process during the drive. This data is necessary to assess telltale efficacy and consequences. At the same time as these ratings, participants will be given a small booster drink to create uncertainty in their BrAC level. The drink will contain orange juice (or pre-approved substitute) with a 5 ml alcohol float. The drink is only given after the first and second evaluation drives; no booster drink will be given after the final evaluation.

(22) Post-Drive Questionnaire—Study 2 (NHTSA Form 2093): This form is necessary to assess telltale efficacy, comprehension, and acceptance. It will be administered after the final telltale evaluation drive.

(23) Debriefing Statement—Study 2 (NHTSA Form 2085): This form is necessary to ensure participants are given full information about the study and to instruct participants not to share specific details with others. A researcher will verbally communicate all information contained in the form and provide a copy to the participant.

Affected Public: Individuals 18 and older from Eastern Iowa and the surrounding areas who have volunteered to take part in driving studies or who have opted in to receive research-related emails from the University of Iowa mass email system. For Study 1A, respondents must be 18 or older and drive a vehicle for personal use, professional use, or both. The design for Study 1B includes 30 sober drivers ages 18 to 20, 30 sober drivers 21 and older, and 30 alcohol-dosed drivers 21 and older for an overall sample of 90. The 21 and older groups are further divided into the following age ranges: 21 to 24, 25 to 40, 41 to 54, 55 to 64, and 65 and older. The design for Study 2 includes 30 alcohol-dosed drivers 21 and older in the same five age ranges as Study 1B. Respondents must meet specific eligibility criteria to be included in this information collection. Businesses are ineligible for the sample and will not be contacted.

Estimated Number of Respondents: For Study 1A, we estimate 550 respondents. This number is based on the proposed recruitment pool and a response rate of approximately 1%. The target number of respondents for Study 1B is 90 participants divided across the two dosing conditions and age groups as described in the “Affected Public” section above. The target number of respondents for Study 2 is 30 participants divided across the age groups described in the “Affected Public” section above. Recent impairment studies at DSRI have shown that only about 15% to 20% of potentially eligible participants enroll, and only about 45% to 50% of respondents to the eligibility questionnaires are potentially eligible (due to self-termination of the questionnaire or not meeting criteria). These statistics were used to estimate response rates for the two online eligibility questionnaires: 600 respondents for Study 1B and 200 respondents for Study 2. Additionally, recent impairment study attrition rates ranged from 5% to 15%. These statistics were used to estimate the maximum number of respondents requested in this new information collection request: 65 respondents for the sober visit of Study 1B, 35 respondents for the alcohol-dosed visit of Study 1B, and 35 respondents for Study 2.

Given respondents for Study 1B and Study 2 are a subset of the respondents to the two online eligibility questionnaires, they are not counted again for the total number. The total number of estimated respondents is thus 1,350 across Study 1A, Study 1B, and Study 2 as shown in Table 1.

Table 1—Estimated Number of Total Respondents
Component | Estimated respondents
Study 1A | 550
Study 1B | 600
Study 2 | 200
Total | 1,350

Frequency: This study will be conducted one time during the three-year period for which NHTSA is requesting approval.

Estimated Number of Responses: We estimate 2,695 total responses, or 898 annual responses. The estimated number of responses reflects the number of respondents anticipated at each component of this information collection request. Estimates for the sober visit of Study 1B assume attrition occurs only at the point of eligibility confirmation. Given the nature of alcohol dosing and adverse events, it is challenging to determine when a participant might withdraw or be withdrawn for the alcohol-dosed visit of Study 1B and for Study 2. Additionally, all participants must complete the debriefing and end of visit procedures if they are dosed with alcohol even if they do not complete all aspects of the study protocol. As a result, these estimates assume no attrition throughout the visit to allow for the highest burden calculation. Table 2 shows the information collection component, the estimated number of respondents, the frequency of response, and the total number of responses.

Table 2—Estimated Number of Responses
NHTSA form No. | Information collection component | Respondents | Frequency | Total number of responses
Study 1A
| Online Survey—Study 1A | 550 | 1 | 550
Recruitment and Scheduling for Study 1B & Study 2
| Eligibility Questionnaire—Study 1B | 600 | 1 | 600
| Eligibility Questionnaire—Study 2 | 200 | 1 | 200
| Appointment Reminder Confirmation Process-Sober—Study 1B | 65 | 1 | 65
| Appointment Reminder Confirmation Process-Alcohol Dosed—Study 1B | 35 | 1 | 35
| Appointment Reminder Confirmation Process—Study 2 | 35 | 1 | 35
Study 1B Sober Visit
| Informed Consent-Sober—Study 1B | 65 | 1 | 65
| Intake & Eligibility Confirmation | 65 | 1 | 65
| Combined Driving Questionnaire | 60 | 1 | 60
| Telltale Evaluation at Simulator (includes form Telltale Questions—Study 1B) | 60 | 1 | 60
| Telltale Acceptance Questionnaire—Study 1B | 60 | 1 | 60
| Debriefing Statement—Study 1B | 60 | 1 | 60
Study 1B Alcohol-Dosed Visit
| Informed Consent-Alcohol Dosed—Study 1B | 35 | 1 | 35
| Intake & Eligibility Confirmation | 35 | 1 | 35
| Combined Driving Questionnaire | 35 | 1 | 35
| Alcohol Dosing Procedures | 35 | 1 | 35
| Telltale Evaluation at Simulator (includes form Telltale Questions—Study 1B) | 35 | 1 | 35
| Telltale Acceptance Questionnaire—Study 1B | 35 | 1 | 35
| Debriefing Statement—Study 1B | 35 | 1 | 35
| End of Visit Procedures (includes form End of Visit Release Agreement) | 35 | 1 | 35
Study 2
| Informed Consent—Study 2 | 35 | 1 | 35
| Intake & Eligibility Confirmation | 35 | 1 | 35
| Combined Driving Questionnaire | 35 | 1 | 35
| Sober Baseline Driving Procedures | 35 | 1 | 35
| Wellness Questionnaire—Study 2 | 35 | 2 | 70
| Alcohol Dosing Procedures | 35 | 1 | 35
| Telltale Evaluation Drives | 35 | 3 | 105
| Post-Drive Ratings—Study 2 | 35 | 3 | 105
| Post-Drive Questionnaire | 35 | 1 | 35
| Debriefing Statement—Study 2 | 35 | 1 | 35
| End of Visit Procedures (includes form End of Visit Release Agreement) | 35 | 1 | 35

Estimated Total Annual Burden Hours: The total estimated burden for this information collection is 647 hours. The annual burden is 218 hours. Study 1A contributes approximately 46 total hours, Recruitment and Scheduling for Study 1B & Study 2 contribute approximately 144 total hours, Study 1B sober visits contribute approximately 78 total hours, Study 1B alcohol-dosed visits contribute approximately 168 total hours, and Study 2 contributes approximately 212 total hours.

For the sober visit, we assume attrition occurs only at the point of eligibility confirmation. Given the nature of alcohol dosing and adverse events, it is challenging to determine when a participant might withdraw or be withdrawn. Alcohol can also exacerbate simulator sickness symptoms. Additionally, all participants must complete Debriefing and End of Visit Procedures if they are dosed with alcohol even if they do not complete all other procedures. As a result, respondent numbers at an alcohol-dosed visit assume no attrition throughout the visit to allow for the highest burden calculation.

The individual form and procedure burden contributions are outlined in the below text and tables (Table 3-Table 9).

• Online Survey—Study 1A (NHTSA Form 2092): We estimate 550 individuals will initiate a response to the survey. Respondents will take approximately 5 minutes to complete the survey one time.

• Eligibility Questionnaire—Study 1B (NHTSA Form 2086): We estimate 600 respondents will initiate a response to the online eligibility questionnaire one time, with 300 respondents completing the questionnaire. Accounting for respondents that are only interested in the sober visit (5 minutes), respondents that initiate but do not complete the questionnaire (5 minutes) and respondents that complete the entire questionnaire (15 minutes), this results in an average of approximately 10 minutes for 600 respondents, with a single response each.

• Eligibility Questionnaire—Study 2 (NHTSA Form 2087): We estimate 200 respondents will initiate a response to the online eligibility questionnaire one time, with 100 respondents completing the questionnaire. Accounting for respondents that initiate but do not complete the questionnaire (5 minutes) and for respondents that complete the entire questionnaire (15 minutes), this results in an average of approximately 10 minutes for 200 respondents with a single response each.

• Appointment Confirmation-Sober—Study 1B (NHTSA Form 2081): We expect to schedule 65 participants for the sober visit of Study 1B. The 65 responses will take approximately 5 minutes to read the information one time and to respond if necessary.

• Appointment Confirmation-Alcohol Dosed—Study 1B (NHTSA Form 2080): We expect to schedule 35 participants for the alcohol-dosed visit of Study 1B. The 35 responses will take approximately 5 minutes to read the information one time and to respond if necessary.

• Appointment Confirmation—Study 2 (NHTSA Form 2082): We expect to schedule 35 participants for Study 2. The 35 responses will take approximately 5 minutes to read the information one time and to respond if necessary.

• Informed Consent Document-Sober—Study 1B (NHTSA Form 2090): We expect 65 participants to complete this form prior to their participation in the sober visit of Study 1B. Participants will take approximately 20 minutes to complete the form one time.

• Intake & Eligibility Confirmation-Sober—Study 1B—We expect 65 participants to complete this block of procedures one time with a duration of 15 minutes. However, only 60 participants are expected to proceed to subsequent Study 1B sober visit procedures.

• Combined Driving Questionnaire—Study 1B & Study 2 (NHTSA Form 2083): This form is administered at both the sober and alcohol-dosed visits of Study 1B as well as the Study 2 visit. We expect to collect data from 130 participants across these three visit types: 60 participants for the Study 1B sober visit, 35 participants for the Study 1B alcohol-dosed visit, and 35 participants for the Study 2 visit. The 130 participants will take approximately 5 minutes to complete the form one time.

• Telltale Evaluation at the Simulator—Study 1B: Preparation of the miniSim and protocol training are expected to take 10 minutes and administration of the evaluation protocol (including administration of NHTSA Form 2096) is expected to take 15 minutes. This gives a duration of 25 minutes one time for the 60 participants in the sober visit and the 35 participants in alcohol-dosed visit (95 participants total).

• Telltale Acceptance Questionnaire—Study 1B (NHTSA Form 2095): We expect 60 participants in the sober visit and 35 participants in the alcohol-dosed visit (95 participants total) to complete this form. Participants will take approximately 5 minutes to complete the form one time.

• Debriefing Statement—Study 1B (NHTSA Form 2084): We expect 60 participants in the sober visit and 35 participants in the alcohol-dosed visit (95 participants total) to complete this form. Participants will take approximately 5 minutes to complete the form one time.

• Informed Consent Document-Alcohol Dosed—Study 1B (NHTSA Form 2089): We expect 35 participants to complete this form prior to their participation in the alcohol-dosed visit of Study 1B. Participants will take approximately 20 minutes to complete the form one time.

• Intake & Eligibility Confirmation—Study 1B Alcohol Dosed & Study 2: We expect 35 participants from Study 1B and 35 participants from Study 2 (70 participants total) to complete this block of procedures one time with a duration of 25 minutes.

• Alcohol Dosing Procedures—Study 1B Alcohol Dosed & Study 2: Participants receive three drinks, 10-minutes apart, over a 30-minute period, then rest for approximately 30 minutes. We expect 35 participants from Study 1B and 35 participants from Study 2 (70 participants total) to complete this 60-minute block of procedures one time.

• End of Visit Procedures—Study 1B Alcohol Dosed & Study 2: This block of procedures includes a period of monitoring the participant for roughly 115 to 120 minutes while they sober to .03 BrAC or less and a period of discharge procedures that take a combined 20 minutes (includes administration of the End of Visit Release Agreement, NHTSA Form 2088). This results in a total burden of 140 minutes for Study 1B Alcohol Dosed and 135 minutes for Study 2. We expect 35 participants in Study 1B Alcohol Dosed and 35 participants in Study 2 to complete these procedures and the End of Visit Release Agreement form one time.

• Informed Consent Document—Study 2 (NHTSA Form 2091): We expect 35 participants to complete this form prior to their participation in Study 2. Participants will take approximately 20 minutes to complete the form one time.

• Sober Baseline Driving Procedures—Study 2: These procedures include approximately 5 minutes of protocol training on the miniSim driving simulator and incentive structure, a familiarization drive of approximately 10 minutes, and a sober baseline drive of approximately 15 minutes. We expect 35 participants to complete this approximately 30-minute block of procedures complete one time.

• Wellness Questionnaire—Study 2 (NHTSA Form 2097): We expect 35 participants to take approximately 5 minutes to complete this form twice for a total burden of 10 minutes.

• Telltale Evaluation Drives—Study 2: We expect 35 participants to complete these three drives one time each. Participants will take approximately 15 minutes to complete each of the three drives for a total burden of 45 minutes.

• Post-Drive Ratings—Study 2 (NHTSA Form 2094): This group of procedures (BrAC measurement, ratings, booster drink) will take approximately 5 minutes and occur 3 times for a total burden of 15 minutes. We expect 35 participants to complete this process one time.

• Post-Drive Questionnaire—Study 2 (NHTSA Form 2093): We expect it will take 35 participants approximately 10 minutes to complete this form one time.

• Debriefing Statement—Study 2 (NHTSA Form 2085): We expect it will take 35 participants approximately 5 minutes to complete this form one time.

Table 3—Burden Estimates: Study 1A
NHTSA form No. | Information collection | Total/annual number of respondents | Estimated burden per response (minutes) | Frequency of response (count) | Total/annual opportunity burden hours
2092 | Online Survey—Study 1A | 550/183 | 5 | 1 | 46/15

Table 4—Burden Estimates: Recruitment and Scheduling for Study 1B & Study 2
NHTSA form No. | Information collection | Total/annual number of respondents | Estimated burden per response (minutes) | Frequency of response (count) | Total/annual opportunity burden hours
2086 | Eligibility Questionnaire—Study 1B | 600/200 | 10 | 1 | 100/33
2087 | Eligibility Questionnaire—Study 2 | 200/67 | 10 | 1 | 33/11
2081 | Appointment Reminder Confirmation Process—Sober—Study 1B | 65/22 | 5 | 1 | 5/2
2080 | Appointment Reminder Confirmation Process—Alcohol Dosed—Study 1B | 35/12 | 5 | 1 | 3/1
2082 | Appointment Reminder Confirmation Process—Study 2 | 35/12 | 5 | 1 | 3/1

Table 5—Burden Estimates: Study 1B Sober Visit
NHTSA form No. | Information collection | Total/annual number of respondents | Estimated burden per response (minutes) | Frequency of response (count) | Total/annual opportunity burden hours
2090 | Informed Consent—Sober—Study 1B | 65/22 | 20 | 1 | 22/7
| Intake & Eligibility Confirmation | 65/22 | 15 | 1 | 16/6
2083 | Combined Driving Questionnaire | 60/20 | 5 | 1 | 5/2
2096 | Telltale Evaluation at Simulator (includes form Telltale Questions—Study 1B) | 60/20 | 25 | 1 | 25/8
2095 | Telltale Acceptance Questionnaire—Study 1B | 60/20 | 5 | 1 | 5/2
2084 | Debriefing Statement—Study 1B | 60/20 | 5 | 1 | 5/2

Table 6—Burden Estimates: Study 1B Alcohol-Dosed Visit
NHTSA form No. | Information collection | Total/annual number of respondents | Estimated burden per response (minutes) | Frequency of response (count) | Total/annual opportunity burden hours
2089 | Informed Consent—Alcohol Dosed—Study 1B | 35/12 | 20 | 1 | 12/4
| Intake & Eligibility Confirmation | 35/12 | 25 | 1 | 15/5
2083 | Combined Driving Questionnaire | 35/12 | 5 | 1 | 3/1
| Alcohol Dosing Procedures | 35/12 | 60 | 1 | 35/12
2096 | Telltale Evaluation at Simulator (includes form Telltale Questions—Study 1B) | 35/12 | 25 | 1 | 15/5
2095 | Telltale Acceptance Questionnaire—Study 1B | 35/12 | 5 | 1 | 3/1
2084 | Debriefing Statement—Study 1B | 35/12 | 5 | 1 | 3/1
2088 | End of Visit Procedures (includes form End of Visit Release Agreement) | 35/12 | 140 | 1 | 82/28

Table 7—Burden Estimates: Study 2
NHTSA form No. | Information collection | Total/annual number of respondents | Estimated burden per response (minutes) | Frequency of response (count) | Total/annual opportunity burden hours
2091 | Informed Consent—Study 2 | 35/12 | 20 | 1 | 12/4
| Intake & Eligibility Confirmation | 35/12 | 25 | 1 | 15/5
2083 | Combined Driving Questionnaire | 35/12 | 5 | 1 | 3/1
| Sober Baseline Driving Procedures | 35/12 | 30 | 1 | 18/6
2097 | Wellness Questionnaire—Study 2 | 35/12 | 5 | 2 | 6/2
| Alcohol Dosing Procedures | 35/12 | 60 | 1 | 35/12
| Telltale Evaluation Drives | 35/12 | 15 | 3 | 26/9
2094 | Post-Drive Ratings—Study 2 | 35/12 | 5 | 3 | 9/3
2093 | Post-Drive Questionnaire | 35/12 | 10 | 1 | 6/2
2085 | Debriefing Statement—Study 2 | 35/12 | 5 | 1 | 3/1
2088 | End of Visit Procedures (includes form End of Visit Release Agreement) | 35/12 | 135 | 1 | 79/27

Table 8—Overall Burden Estimates by Stage
| Total/annual opportunity burden (hours)
Study 1A | 46/15
Recruitment & Scheduling for Study 1B & Study 2 | 144/48
Study 1B—Sober Visit | 78/27
Study 1B—Alcohol-Dosed Visit | 168/57
Study 2 | 212/72

Table 9—Overall Burden Estimates by Information Collection (Alphabetical)
| Total/annual opportunity burden (hours)
Alcohol Dosing Procedures for Study 1B Alcohol Dosed & Study 2 | 70/23
End of Visit Procedures (includes Form 2088 End of Visit Release Agreement) for Study 1B Alcohol Dosed | 82/28
End of Visit Procedures (includes Form 2088 End of Visit Release Agreement) for Study 2 | 79/27
Form 2080 Appointment Reminder Confirmation Process—Alcohol Dosed—Study 1B | 3/1
Form 2081 Appointment Reminder Confirmation Process—Sober—Study 1B | 5/2
Form 2082 Appointment Reminder Confirmation Process—Study 2 | 3/1
Form 2083 Combined Driving Questionnaire—Study 1B (both Alcohol Dosed & Sober) & Study 2 | 11/4
Form 2084 Debriefing Statement—Study 1B (both Alcohol Dosed & Sober) | 8/3
Form 2085 Debriefing Statement—Study 2 | 3/1
Form 2086 Eligibility Questionnaire—Study 1B (both Alcohol Dosed & Sober) | 100/33
Form 2087 Eligibility Questionnaire—Study 2 | 33/11
Form 2089 Informed Consent—Alcohol Dosed—Study 1B | 12/4
Form 2090 Informed Consent—Sober—Study 1B | 22/7
Form 2091 Informed Consent—Study 2 | 12/4
Form 2092 Online Survey—Study 1A | 46/15
Form 2093 Post-Drive Questionnaire—Study 2 | 6/2
Form 2094 Post-Drive Ratings—Study 2 | 9/3
Form 2095 Telltale Acceptance Questionnaire—Study 1B (both Alcohol Dosed & Sober) | 8/3
Form 2097 Wellness Questionnaire—Study 2 | 6/2
Intake and Eligibility Confirmation for Study 1B Sober | 16/6
Intake and Eligibility Confirmation for Study 1B Alcohol Dosed & Study 2 | 29/10
Sober Baseline Driving Procedures for Study 2 | 18/6
Telltale Evaluation at Simulator (includes Form 2096 Telltale Questions—Study 1B) for Study 1B (both Alcohol Dosed & Sober) | 40/13
Telltale Evaluation Drives for Study 2 | 26/9
Burden of Entire ICR (Total/Annual) | 647/218

Estimated Total Annual Burden Cost: Respondents will not incur any reporting or recordkeeping costs from the information collection. Respondents will incur a one-time cost for local travel to and from DSRI. Using the current IRS standard mileage rate of $0.70 per mile, each respondent is expected to incur no more than $42.00 ($0.70 × 60 miles) in transportation costs. However, we estimate that the total transportation costs will be higher for alcohol-dosed respondents, who will not be permitted to walk, bike, or drive when leaving DSRI. Previous impairment studies conducted at DSRI have shown that $70 compensation for transportation expenses was sufficient to limit attrition and offset costs of third-party transportation. Therefore, estimated burden costs associated with Study 1B sober respondents are $2,730 ($42.00 × 65 respondents) and total costs associated with Study 1B and Study 2 alcohol-dosed respondents to be $4,900 ($70 × 70 respondents). The total costs for this information collection request are estimated to be $7,630 ($2,730 + $4,900). The annualized cost is thus $2,543 ($7,630 ÷ 3, rounded).

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29A.

Cem Hatipoglu,
Associate Administrator, Vehicle Safety Research.

[FR Doc. 2025-22762 Filed 12-12-25; 8:45 am]

BILLING CODE 4910-59-P